DEPARTMENT OF THE INTERIOR

Fish and Wildlife Service

[FWS-R8-ES-2014-N161; FXES11130800000-145-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing recovery permits to conduct certain activities with endangered species.

DATES: Comments on these permit applications must be received on or before September 2, 2014.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicants

Permit No. TE-802094

Applicant: Carl J. Page, Smith River, California

The applicant requests a permit renewal to take (harass by survey, capture, and release) the tidewater goby (Eucyclogobius newberryi) and unarmored threespine stickleback (Gasterosteus aculeatus williamsoni) in conjunction with surveys and population monitoring activities throughout the range of each species in California, for the purpose of enhancing the species' survival.

Permit No. TE-35387A

Applicant: Danielle C. Glenn, Ventura, California

The applicant requests a permit renewal to take (harass by survey, locate and monitor nests) the California least tern (Sternula antillarum browni) (Sterna a. browni) in conjunction with surveys and population monitoring activities throughout the range of the species in Ventura County, California, for the purpose of enhancing the species' survival.

Permit No. TE-094893

Applicant: Santa Barbara Botanic Garden, Santa Barbara, California

The applicant requests a permit renewal to remove/reduce to possession the following plant species, in conjunction with surveys and monitoring activities on Federal lands throughout the range of each species in California, for the purpose of enhancing each species' survival:

• Arabis mcdonaldiana (McDonald's rockcress),

• Arenaria paludicola (marsh sandwort),

• Astragalus pycnostachyus var. lanosissimus (Ventura Marsh milk-vetch),

• Berberis nevinii (Nevin's barberry),

• Berberis pinnata subsp. insularis (island barberry),

• Castilleja mollis (soft-leaved paintbrush),

• Caulanthus californicus (California jewelflower),

• Cirsium fontinale var. obispoense (Chorro Creek bog thistle),

• Cirsium loncholepis (La Graciosa thistle),

• Clarkia speciosa var. immaculata (Pismo clarkia),

• Chloropyron maritimum subsp. maritimum (Cordylanthus maritimus subsp. maritimus) (salt marsh bird's-beak),

• Deinandra increscens subsp. villosa (Gaviota tarplant),

• Delphinium variegatum subsp. kinkiense (San Clemente Island larkspur),

• Dudleya traskiae (Santa Barbara Island liveforever),

• Eremalche kernensis (Kern mallow),

• Eriodictyon altissimum (Indian Knob mountain balm),

• Eriodictyon capitatum (Lompoc yerba santa),

• Galium buxifolium (island bedstraw),

• Gilia tenuiflora subsp. hoffmannii (Hoffmann's slender-flowered gilia),

• Layia carnosa (Beach layia),

• Lithophragma maximum (San Clemente Island woodland-star),

• Lupinus nipomensis (Nipomo Mesa lupine),

• Malacothamnus clementinus (San Clemente Island bush-mallow),

• Malacothamnus fasciculatus var. nesioticus (Santa Cruz Island bush-mallow),

• Malacothrix indecora (Santa Cruz Island malacothrix),

• Malacothrix squalida (island malacothrix),

• Nasturtium gambelii (Rorippa g.) (Gambel's watercress),

• Pentachaeta lyonii (Lyon's pentachaeta),

• Sibara filifolia (Santa Cruz Island rockcress), and

• Thysanocarpus conchuliferus (Santa Cruz Island fringepod).

Permit No. TE-100006

Applicant: Freeman Biological, Crescent City, California

The applicant requests a permit amendment to take (survey, capture, handle, and release) the San Francisco garter snake (Thamnophis sirtalis tetrataenia) in conjunction with survey activities throughout the range of the species in San Francisco, San Mateo, and Santa Cruz Counties, California, for the purpose of enhancing the species' survival.

Permit No. TE-40211B

Applicant: Melissa M. Newman, Sonora, California

The applicant requests a permit to take (harass by survey, capture, handle, and release) the California tiger salamander (Santa Barbara County Distinct Population Segment (DPS) and Sonoma County DPS) (Ambystoma californiense) in conjunction with surveys and population monitoring throughout the range of the species in California for the purpose of enhancing the species' survival.

Permit No. TE-806679

Applicant: Spring Rivers Ecological Sciences, LLC, Cassel, California

The applicant requests a permit renewal to take (capture, weigh, mark, collect voucher, collect tissue, release, and translocate/release to restored habitat) the Shasta crayfish (Pacifastacus fortis) in conjunction with surveys and scientific research activities in Shasta County, California, for the purpose of enhancing the species' survival.

Permit No. TE-006559

Applicant: Dale A. Powell, Riverside, California

The applicant requests a permit renewal to take (survey by pursuit) the Quino checkerspot butterfly (Euphydryas editha quino) and Delhi Sands flower-loving fly (Rhaphiomidas terminatus abdominalis) in conjunction with survey activities throughout the range of each species in California for the purpose of enhancing the species' survival.

Permit No. TE-40218B

Applicant: John Kunna, Palo Alto, California

The applicant requests a permit to take (harass by survey, capture, handle, and release) the California tiger salamander (Sonoma County DPS) (Ambystoma californiense), and take (survey, capture, handle, and release) the San Francisco garter snake (Thamnophis sirtalis tetrataenia) in conjunction with surveys and population monitoring activities throughout the range of each species in California for the purpose of enhancing the species' survival.

Permit No. TE-237061

Applicant: Daniel H. Chase, San Francisco, California

The applicant requests a permit renewal to take (harass by survey, capture, handle, and release) the tidewater goby (Eucyclogobius newberryi) in conjunction with surveys, research, and population monitoring activities throughout the range of the species in California for the purpose of enhancing the species' survival.

Permit No. TE-032713

Applicant: California Department of Transportation, Fresno, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi); take (harass by survey, capture, handle, and release) the California tiger salamander (Santa Barbara County DPS and Sonoma County DPS) (Ambystoma californiense); and take (capture, handle, and release) the Tipton kangaroo rat (Dipodomys nitratoides nitratoides) and giant kangaroo rat (Dipodomys ingens) in conjunction with surveys and population monitoring activities throughout the range of each species in California for the purpose of enhancing the species' survival.

Permit No. TE-031913

Applicant: Morgan L. Ball, Lompoc, California

The applicant requests a permit renewal and amendment to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi); take (harass by survey, locate and monitor nests, capture, band, and release) the southwestern willow flycatcher (Empidonax traillii extimus); take (survey by pursuit) the El Segundo blue butterfly (Euphilotes battoides allyni); and take (harass by survey, capture, handle, and release) the California tiger salamander (Santa Barbara County DPS and Sonoma County DPS) (Ambystoma californiense) in conjunction with surveys and population monitoring activities throughout the range of each species in California for the purpose of enhancing the species' survival.

Permit No. TE-110382

Applicant: Ava R. Edens, Mission Viejo, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California, for the purpose of enhancing the species' survival.

Permit No. TE-41182B

Applicant: Karen L. Pope, Arcata, California

The applicant requests a permit to take (survey, capture, handle, swab, and release) the Sierra Nevada yellow-legged frog (Rana sierrae) in conjunction with survey and population monitoring activities in Butte, Sierra, Nevada, Placer, and El Dorado Counties, California, for the purpose of enhancing the species' survival.

Permit No. TE-203081

Applicant: John P. LaBonte, Goleta, California

The applicant requests a permit amendment to take (harass by survey, capture, handle, and release) the California tiger salamander (Santa Barbara County DPS and Sonoma County DPS) (Ambystoma californiense) in conjunction with surveys and population monitoring throughout the range of the species in California for the purpose of enhancing the species' survival.

Permit No. TE-41184B

Applicant: Mason D. Hyland, Gilroy, California

The applicant requests a permit to take (harass by survey, capture, handle, and release) the California tiger salamander (Santa Barbara County DPS and Sonoma County DPS) (Ambystoma californiense) in conjunction with surveys and population monitoring throughout the range of the species in California for the purpose of enhancing the species' survival.

Permit No. TE-830213

Applicant: EcoPlan Associates, Mesa, Arizona

The applicant requests a permit renewal and amendment to take (harass by survey, locate and monitor nests) the southwestern willow flycatcher (Empidonax traillii extimus), and take (harass by survey) the Yuma clapper rail (Rallus longirostris yumanensis) in conjunction with surveys and population monitoring activities in Riverside, San Bernardino, and Imperial Counties, California, and Clark County, Nevada, for the purpose of enhancing each species' survival.

Permit No. TE-41613B

Applicant: Mitch W. Stewart, Sacramento, California

The applicant requests a permit to take (harass by survey) the southwestern willow flycatcher (Empidonax traillii extimus) in conjunction with surveys and population monitoring activities in Tulare County, California, for the purpose of enhancing the species' survival.

Permit No. TE-89998A

Applicant: Matthew L. Amalong, Fountain Valley, California

The applicant requests a permit amendment to take (harass by survey, locate and monitor nests, handle, and band) the California least tern (Sternula antillarum browni) (Sterna a. browni) in conjunction with surveys and population monitoring activities throughout the range of the species in California for the purpose of enhancing the species' survival.

Permit No. TE-049175

Applicant: Melanie R. Dicus, Black Canyon, Arizona

The applicant requests a permit renewal to take (survey by pursuit) the Quino checkerspot butterfly (Euphydryas editha quino) and Delhi Sands flower-loving fly (Rhaphiomidas terminatus abdominalis) in conjunction with survey activities throughout the range of each species in California for the purpose of enhancing the species' survival.

Permit No. TE-027427

Applicant: Jeff A. Alvarez, Sacramento, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi), and take (harass by survey, capture, handle, collect tissue and vouchers, and release) the California tiger salamander (Santa Barbara County DPS and Sonoma County DPS) (Ambystoma californiense) in conjunction with survey and population monitoring activities throughout the range of each species in California for the purpose of enhancing the species' survival.

Permit No. TE-094318

Applicant: Jessica S. Vinje, Escondido, California

The applicant requests a permit renewal to take (locate and monitor nests) the least Bell's vireo (Vireo bellii pusillus) in conjunction with nest monitoring activities throughout the range of the species in California for the purpose of enhancing the species' survival.

Permit No. TE-104080

Applicant: Stephen A. Sykes, Roseville, California

The applicant requests a permit to take (harass by survey, capture, handle, and release) the California tiger salamander (Santa Barbara County DPS and Sonoma County DPS) (Ambystoma californiense) in conjunction with surveys and population monitoring throughout the range of the species in California for the purpose of enhancing the species' survival.

Permit No. TE-43668A

Applicant: Gerald T. Braden, Angelus Oaks, California

The applicant requests a permit renewal to take (harass by survey, locate and monitor nests, capture, band, color-band, release and remove brown-headed cowbird [Molothrus ater] eggs and chicks from parasitized nests) the southwestern willow flycatcher (Empidonax traillii extimus); take (locate and monitor nests, color-band, release and remove brown-headed cowbird eggs and chicks from parasitized nests) the least Bell's vireo (Vireo belli pusillus); take (harass by survey) the light-footed clapper rail (Rallus longirostris levipes) and Yuma clapper rail (Rallus longirostris yumanensis); and take (capture, handle, and release) the San Bernardino Merriam's kangaroo rat (Dipodomys merriami parvus) and the Stephens' kangaroo rat (Dipodomys stephensi) in conjunction with nest monitoring activities throughout the range of each species in California for the purpose of enhancing the species' survival.

Permit No. TE-094642

Applicant: Howard B. Shaffer, Los Angeles, California

The applicant requests a permit amendment to take (conduct training workshops) the California tiger salamander (Santa Barbara County DPS and Sonoma County DPS) (Ambystoma californiense) in conjunction with training activities throughout the range of the species in California for the purpose of enhancing the species' survival.

Permit No. TE-027422

Applicant: Brian T. Pittman, Petaluma, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi), and take (capture, handle, mark and release, collect tissue or small individuals for genetic analysis, and collect voucher specimens) the California tiger salamander (Sonoma County DPS) (Ambystoma californiense) in conjunction with survey and population monitoring activities throughout the range of each species in California for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Michael Long,
Acting Regional Director, Pacific Southwest Region, Sacramento, California.

[FR Doc. 2014-18012 Filed 7-30-14; 8:45 am]

BILLING CODE 4310-55-P